DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 77 FR 53888-53889, dated September 4, 2012) is amended to reflect the reorganization of the National Center for Injury Prevention and Control, Office for Non-communicable Diseases, Injury and Environmental Health, Centers for Disease Control and Prevention.

Section C-B, Organization and Functions, is hereby amended as follows:

After the listing for the National Center for Injury Prevention and Control (CUH), delete in their entirety the remaining titles and functional statements and insert the following:

Office of the Director (CUH1). (1) Manages, directs, coordinates and evaluates the activities of the National Center for Injury Prevention and Control (NCIPC); (2) develops goals and objectives and provides leadership, policy formation, scientific oversight, and guidance in program planning and development; (3) coordinates NCIPC program activities with other CDC components, other Public Health Service (PHS) agencies, PHS regional offices, other federal agencies, state and local health departments, community-based organizations, business and industry; (4) consults and coordinates activities with medical, engineering, and other scientific and professional organizations interested in injury prevention and control; (5) provides administrative support, program management and fiscal services to the center; (6) supports the activities of the Secretary's Advisory Committee for Injury Prevention and Control; (7) coordinates technical assistance to other nations and international organizations in establishing and implementing injury prevention and control programs; (8) directs and coordinates information resources management activities, the production and distribution of technical and nontechnical injury prevention and control publications and information, and the conduct of health education and health promotion activities; and (9) provides overall guidance and support for center-wide grant activities.

Office of Policy and Partnerships (CUH12). (1) Manages issues proactively in order to minimize their negative effects, maximize their potential opportunities, and avoid the need for crisis management; (2) reviews, prepares, and coordinates policy and briefing documents; (3) conducts monitoring and analysis of policy issues potentially affecting NCIPC and its constituents; (4) provides information for the development of NCIPC's annual budget submission and supporting documents; (5) engages in partnerships with external organizations to meet mutual goals; (6) coordinates partnership activities across NCIPC; (7) identifies and defines emerging or cross-cutting long-term policy issues and develops action plans that support and advance action; (8) advises NCIPC and CDC leadership and staff on policy and partnership issues relevant to NCIPC; (9) oversees and coordinates performance-related activities for NCIPC; and (10) provides liaison with staff offices and other officials of CDC.

Office of Program Management and Operations (CUH13). (1) Plans, coordinates, and provides administrative and management support, advice, and guidance to NCIPC; (2) coordinates NCIPC-wide administrative management and support services in the areas of fiscal management, personnel, travel, and other administrative services; (3) prepares annual budget formulation and budget justifications; (4) coordinates NCIPC requirements relating to contracts, grants, cooperative agreements, and reimbursable agreements; (5) develops and implements administrative policies, procedures, and operations, as appropriate, for NCIPC, and prepares special reports and studies, as required, in the administrative management areas; and (6) maintains liaison with related staff offices and other officials of CDC.

Office of Communication (CUH14). (1) Provides ongoing communication leadership and support to NCIPC's Office of the Director and divisions in furthering the Center's mission to prevent violence and unintentional injury and to reduce their consequences; (2) leads strategic planning for communications and branding programs and projects for NCIPC and injury and violence issues; (3) through matrix management, provides strategic communication direction and technical assistance across NCIPC to ensure all health communication activities are evidence-based and demonstrate impact; (4) leads and oversees news media strategy and evaluation, including news response, media monitoring, proactive media engagement, media training, and long lead pitching; (5) oversees, manages and executes CDC web and digital governance through matrix management and work group structures; (6) leads digital communication and marketing strategies, and manages digital channels; (7) executes web development for the NCIPC intranet; provides technical assistance and training to OD offices in accessing and using NCIPC wiki for internal communication and information sharing; (8) manages and coordinates clearance of NCIPC print and non-print materials, ensuring adherence to and consistency with CDC and Department of Health and Human Services (DHHS) information and publication policies and guidelines; (9) facilitates cross-division, and cross-CIO coordination of health communication activities, sharing of lessons learned, and development of best practices; (10) serves as primary liaison between NCIPC and CDC's Office of the Associate Director for Communication (OADC); (11) coordinates and leads implementation of CDC-wide communication initiatives and policies, including health literacy, plain language, and CDC branding; (12) provides communication support to OD offices and technical assistance and training in accessing centralized communication systems available through OADC and other offices; (13) provides oversight and approval for CDC logo licensing requests from external partner organizations and involving NCIPC divisions and programs; (14) represents NCIPC on cross-CIO and external committees, workgroups, and at conferences relating to health communication activities; and (15) in carrying out these functions, develops and manages relationships with a wide range of partners and customers, including other PHS agencies, federal and state departments and agencies, and private organizations.

Office of the Associate Director of Science (CUH17). (1) Ensures NCIPC produces the highest quality, most useful and most relevant science possible; (2) guides and mentors other scientists by helping link scientists with the tools they need to succeed; (3) oversees scientific clearance for NCIPC and sends documents for cross-clearance to other centers and reviews documents from other centers for cross clearance; (4) conducts peer review of intramural research and scientific programs; (5) provides information and guidance to the staff regarding scientific issues and provides scientific leadership for the center; (6) serves as a scientific expert and a key resource for information through linkage to staff and resources in the center; (7) supervises Institutional Review Board activities and is responsible for Office of Management and Budget-Paperwork Reduction Act activities for the center; (8) assures scientists follow CDC's policies on data release and sharing; (9) provides leadership, management, and oversight for NCIPC's external advisory board; (10) provides oversight and support for the Extramural Research Program Office (ERPO) to include planning, developing, coordinating, and evaluating extramural research activities in cooperation with centers, divisions, and offices within the Office of Non-communicable Diseases, Injury and Environmental Health; (11) directs the extramural research program by planning, coordinating, developing, implementing, monitoring, and evaluating extramural research that is designed to address center priorities; (12) participates with divisions and offices within the center to establish research priorities for the center; (13) provides scientific leadership in the areas of extramural research supported by the center; (14) promotes and prepares initiatives to stimulate extramural research in relevant priority areas; (15) coordinates and conducts in-depth external peer review and secondary program relevance review of extramural research applications by use of consultant expert panels; (16) makes recommendations to the center director on award selections and staff members serve as the program officials in conjunction with CDC grants management and policy officials to implement and monitor the scientific, technical, and administrative aspects of awards; (17) facilitates scientific collaborations between external and internal investigators; (18) disseminates and evaluates extramural research progress, findings, and impact; and (19) develops extramural research policies and implements those policies within NCIPC.

Division of Violence Prevention (CUHC). (1) Provides leadership in developing and executing a national program for the prevention and control of non-occupational violence-related injuries and death which addresses, but is not limited to, youth violence, intimate partner violence, sexual violence, suicide, elder abuse, and child abuse; (2) develops and disseminates policies, recommendations, and guidelines for the prevention of violence and its consequences; (3) proposes goals and objectives for national violence prevention and control programs, monitors progress toward these goals and objectives, and recommends and develops guidelines for priority prevention and control activities; (4) facilitates similar strategic planning activities by other federal, state, and local agencies, academic institutions, and private and other public organizations; (5) plans, directs, conducts, and supports research focused on the causes of violence and the development and evaluation of strategies to prevent and control violence-related injuries and deaths; (6) plans, establishes, and evaluates surveillance systems to monitor national trends in morbidity, mortality, disabilities, and cost of violence-related injuries and deaths, and facilitates the development of surveillance systems by state and local agencies; (7) plans, conducts, supports, and evaluates demonstration projects and programs to prevent and control violence; (8) provides technical assistance, consultation, training, and epidemiological, statistical, educational, and other technical services to assist state and local health departments and community-based organizations in the planning, development, implementation, evaluation, and overall improvement of violence prevention programs; (9) supports the dissemination of research findings and transfer of violence prevention and control technologies to federal, state, and local agencies, private organizations, and other national and international groups; and (10) in carrying out the above functions, collaborates with other Divisions of NCIPC, CDC Centers/Institute/Offices (CIO), DHHS agencies, other federal, state, and local departments and agencies, academic institutions, and voluntary, private sector, and international organizations, as appropriate.

Office of the Director (CUHC1). (1) Plans, directs, and evaluates the activities of the Division; (2) provides national leadership and guidance in policy formation and program division; (3) provides national leadership and guidance in policy formation and program planning, development, and evaluation; (4) provides administrative, fiscal, and technical support for Division programs and units; (5) assures multi-disciplinary collaboration in violence prevention and control activities; (6) provides leadership for developing research in etiologic, epidemiologic, and behavioral aspects of violence prevention and control, and for coordinating activities within the division and others involved in violence prevention; (7) prepares, edits, and monitors clearance of manuscripts for publication in scientific and technical journals and publications, including articles and guidelines published in MMWR, and other publications for the public; (8) prepares, tracks and coordinates controlled and general correspondence; (9) prepares responses and coordinates provision of materials requested by Congress and the Department; (10) collaborates with subject matter experts, program and policy staff, develops and implements communication strategies, campaigns, and plans to meet the needs of division programs and mission; (11) develops tailored messages and materials to promote dissemination of scientific findings, evidence-based prevention strategies, priority recommendations, and guidelines through various media sources; (12) coordinates with NCIPC Office of Communication to execute and support NCIPC and CDC-wide communication initiatives and policies; (13) provides consultation on international violence prevention and control activities of the Division; (14) collaborates, as appropriate, with other divisions and offices in NCIPC, and with other CIOs throughout CDC; (15) collaborates, as appropriate, with non-governmental organizations to achieve the mission of the Division; and (16) establishes linkages with other CIOs and national level prevention partners that impact on violence prevention programs.

Surveillance Branch (CUHCB). (1) Conducts national and international surveillance and surveys to identify new and monitor recognized forms of violence and its consequences, analyzes incidence and prevalence data, and monitors trends in violence and its trajectory across the lifespan; (2) provides expert consultation to state, local, and international health agencies on surveillance system design and implementation and use of surveillance data to describe the burden of violence; (3) develops and implements uniform definitions for public health surveillance of various forms of violence and related outcomes; (4) monitors the activities of contracts, cooperative agreements, and grants to ensure operational guidelines are met; (5) provides information on violence surveillance to the scientific community and the general public through regular publication in peer-reviewed journals and CDC publications as well as through presentations to professional conferences and other stakeholder groups; (6) works with other branches to provide consultation, collaboration, and to ensure the use of surveillance data to inform research and prevention efforts; and (7) provides leadership and expands collaboration with other federal, state, local, voluntary, and professional and international organizations in all aspects of surveillance of violence and its consequences.

Research and Evaluation Branch (CUHCC). (1) Plans, directs, conducts, and supports etiologic and epidemiologic research focused on casual factors, risk and protective factors, and psychosocial, cultural, and contextual determinants for violence and its consequences; (2) plans, directs, conducts, and supports applied research focused on the evaluation of strategies, policies, and interventions to prevent violent behavior and violence-related injuries and deaths; (3) uses research findings to develop new strategies, policies, and interventions or improve the impact of existing strategies, policies, and interventions to prevent and reduce violent behavior, its risk factors, and its consequences; (4) develops and evaluates methodologies for conducting program evaluation; (5) evaluates the effectiveness and impact of violence prevention interventions, strategies, policies, and interventions as practiced or implemented by public health agencies and organizations at the national/regional and state/local levels; (6) conducts research to examine the context, processes, and factors that influence effective and efficient dissemination/diffusion, uptake/adoption, implementation, translation, and sustainability of violence prevention strategies, policies, and interventions; (7) serves as a resource, collaborates, and provides technical assistance in applying research and evaluation results and techniques to the ongoing assessment and improvement of violence prevention and control programs; (8) collaborates on planning, translating, and disseminating research and evaluation results to other branches, grantees, and prevention partners; (9) collaborates with other branches to stimulate surveillance and programmatic activities and to ensure integration of activities across the public health model; (10) monitors activities of contracts, cooperative agreements, and grants to ensure operational objectives are being met; (11) contributes to the research literature by publishing regularly in peer-reviewed journals and CDC-sponsored publications that include, but are not limited to, etiology and evaluation research and syntheses; and (12) collaborates with other components within CDC, PHS, and DHHS and other federal agencies, national professional, voluntary and philanthropic organizations and international agencies.

Prevention Practice and Translation Branch (CUHCD). (1) Provides leadership and support in public health practice and the application of science for maximal benefit of violence prevention programmatic efforts; (2) develops and manages liaison and collaborative relationships with professional, community, international, federal, and other voluntary agencies involved in violence prevention activities; (3) provides support, training, and technical assistance that applies sound prevention principles and systematic processes to enhance public health practice, including program development, implementation, and improvement; (4) applies evidence from translational science and continuous quality improvement to help communities select, adopt, adapt, implement, disseminate, sustain, and scale up programs, strategies, and activities that will lead to successful violence prevention outcomes; (5) identifies findings, lessons learned and evidence from the field and collaborates with internal and external partners to inform research, surveillance, and program evaluation that builds the evidence base for effective violence prevention; (6) synthesizes and translates relevant research, evaluation findings, evidence, and trends and assuring that communication and marketing technologies are applied to the development of practical tools, products, trainings, and guidance that enhances violence prevention programs, strategies, and activities; (7) communicates internally and externally the important work and progress of the staff, grantees, and partners; and (8) collaborates with internal and external partners to disseminate what works to prevent violence into widespread practice.

Division of Unintentional Injury Prevention (CUHD). (1) Provides leadership and coordination of a national program for the prevention and control of non-occupational unintentional injuries through collaborative efforts with federal, state and local agencies, public, private sector organizations and academic institutions; (2) proposes goals and objectives for linking health system and injury control activities with public health activities, including surveillance, prevention, health care and rehabilitation of injury; (3) proposes goals and objectives for the prevention and control of unintentional injuries, monitors and evaluates progress towards their achievement, determines priority recommendations, develops guidelines and facilitates implementation strategies in cooperation with governmental and non-governmental organizations; (4) provides scientific consultation and technical advice to states and localities to increase their capacity to develop, implement, and evaluate injury prevention programs, surveillance activities and the integration of health system and trauma system initiatives in surveillance, prevention, quality improvement with initiatives in the public health system; (5) plans, establishes and evaluates surveillance systems to monitor national trends in mortality, morbidity, disabilities, rehabilitation, and the cost of unintentional injuries; (6) plans, directs, conducts and supports research to assess environmental, social, behavioral, and other risk factors and evaluate intervention activities to prevent and control unintentional injuries; (7) plans and directs strategies to collect, analyze, and interpret scientific findings from surveillance and epidemiologic research activities for use in evaluating trends, setting priorities, and developing intervention strategies for unintentional injuries, (8) plans, directs, supports and evaluates demonstration programs to prevent and control unintentional injuries; (9) supports dissemination of injury prevention and control research findings and transfer technologies to federal, state and local health agencies, and public and private sector organizations with responsibilities and interests related to unintentional injuries and the linkage between health systems and public health; (10) supports training to increase the number and competence of personnel engaged in injury prevention and control research practices; (11) facilitates the development of scientific approaches to injury prevention and control through publication of research findings in professional journals and through participation in national and international meetings, seminars, and conferences; and (12) supports NCIPC through collaborative efforts with NCIPC Divisions and Offices, CDC CIOs, DHHS agencies, and other federal departments and agencies, state and local agencies and professional and private organizations.

Home, Recreation, and Transportation Branch (CUHDB). (1) Provides leadership and coordination of a national program for the prevention and control of non-occupational unintentional injuries that occur at home, in the community, and during transportation through collaborative efforts with federal, state and local agencies, and public and private sector organizations; (2) proposes goals and objectives for the prevention and control of unintentional injuries, monitors and evaluates progress towards their achievement, determines priority recommendations, develops guidelines, and facilitates implementation strategies in cooperation with other federal agencies, state and local health agencies, academic institutions, public and private sector organizations, and international agencies; (3) provides scientific consultation and technical advice to states and localities to increase their capacity to develop, implement, and evaluate unintentional injury programs and surveillance activities; (4) plans, establishes, and evaluates surveillance systems to monitor national and state-level trends in morbidity, mortality, disabilities, and costs of unintentional injuries; (5) plans, directs, conducts, and supports research to assess environmental, social, behavioral, and other risk factors and to develop and evaluate intervention activities to prevent and control unintentional injuries; (6) plans and directs strategies to collect, analyze, and interpret scientific findings from surveillance, behavioral, and epidemiologic research activities for use in evaluating trends, setting priorities, and developing intervention strategies for unintentional injuries; (7) plans, directs, supports, and evaluates demonstration programs to prevent and control unintentional injuries; (8) supports dissemination of unintentional injury prevention and control research, translation, and implementation to federal, state, and local health agencies, public and private sector organizations, and other national and international groups with responsibilities and interests related to unintentional injury; (9) supports training to increase the number and competence of personnel engaged in unintentional injury prevention and control research and practices; and (10) disseminates scientific findings, evidence-based prevention strategies and unintentional injury prevention guidelines through publication of research findings in professional journals and government reports; through participation in national and international meetings, seminars, and conferences; and through the development of communication initiatives.

Health Systems and Trauma Systems Branch (CUHDC). (1) Conducts research on the impact of health systems and trauma systems in decreasing the burden of injury; (2) works with local and state health programs to determine how to integrate surveillance, injury prevention and quality improvement activities within health systems and trauma systems in order to decrease the burden of injury; (3) uses surveillance systems to monitor traumatic brain injury and poisonings to create incidence rates and prevention programs to provide data for planning in the community and the health systems; (4) conducts research on the medical aspects of injury, disability and health services; (5) supports epidemiologic analysis, applied research, and demonstration projects to improve the effectiveness of healthcare and trauma systems, as well as understand how health and trauma systems can best be integrated with public health prevention efforts; (6) develops scientific agendas for the NCIPC extramural research program; (7) serves as a focal point for traumatic brain injury prevention within CDC; (8) supports training programs and disseminates research findings to strengthen the competence of practitioners and researchers in the areas of traumatic brain injury, poisoning, integration of injury prevention and control within public health systems, health systems and trauma systems; and (9) develops guidelines to reduce or mitigate the impact of poisoning, traumatic brain injury, and to help optimize the treatment of injuries within various health systems.

Division of Analysis Research and Practice Integration (CUHF). (1) Works to reduce injuries and violence by providing high quality and innovative data products, support for state injury prevention and control programs, injury surveillance, program evaluation, and research that promote the dissemination and application of science into program practice at NCIPC and the broader injury and violence prevention field; (2) provides expertise in statistics, computer programming, data management, economics, public health practice, surveillance, evaluation, and research to engage NCIPC and the injury and violence prevention community; (3) produces new scientific knowledge that informs policies, practice, and programs in the injury field; (4) identifies promising or potential best practices in the injury field that may require additional scientific investigation; (5) develops evidence-based public health practices, policies, or programs that prevent or reduce injuries and violence; (6) sustains a public health infrastructure for injury and violence prevention at federal, state, local and tribal levels; and (7) promotes state and local health department's integration of science based public health practice, state-level surveillance, and evaluation with other public health and nonpublic health sectors, such as chronic diseases, HIV/AIDS, transportation initiatives, city or community planning, etc.

Office of the Director (CUHF1). (1) Establishes and interprets policies and determines program priorities; (2) provides national leadership and guidance in injury prevention and control program planning, development, and evaluation; (3) provides administrative, fiscal, and technical support for division programs and units; (4) assures multi-disciplinary collaboration in injury and violence prevention and control program implementation; (5) provides leadership for the development of research to inform policies, practice, and programs in the injury field; (6) prepares and monitors clearance of manuscripts for publication in scientific and technical journals and publications, including articles and guidelines published in the MMWR, and other publications for the public; (7) prepares, tracks and coordinates responses to all inquiries from Congress, the public, and DHHS; (8) collaborates with subject matter experts, program and policy staff, develops and implements communication strategies, campaigns, and plans to meet the needs of division programs and mission; (9) develops tailored messages and materials to promote dissemination of scientific findings, evidence-based prevention strategies, priority recommendations, and guidelines through traditional media outlets, social media, and other channels; (10) coordinates with the NCIPC Office of Communication to execute and support NCIPC and CDC-wide communication initiatives and policies; and (11) establishes linkages and collaborates, as appropriate, with other divisions and offices in NCIPC, other CIOs throughout CDC, and with national partners that impact on injury and violence prevention programs.

Statistics, Programming & Economics Branch (CUHFB). (1) Develops, evaluates, and implements innovative statistical, economic, policy research, computer programming, and data management methods for application to injury surveillance, epidemiologic studies, program evaluation and programmatic activities; (2) provides expert consultation in statistics, economics, policy research, programming, and data management to all NCIPC staff; (3) collaborates with NCIPC scientists on epidemiologic studies and provides associated technical advice in the areas of study design, sampling, and the collection, management, analysis, and interpretation of injury data; (4) coordinates, manages, maintains and provides tabulations and maps from national surveillance systems and other data sources that contain national, state and local data on injury morbidity, mortality and economic costs; (5) prepares and produces high quality statistical, economic and policy reports and publications material for information presentation and dissemination by NCIPC staff; (6) advises the Office of the Director, NCIPC, in the area of data and systems management and on surveillance and statistical analysis issues relevant to injury program planning and evaluation; and (7) carries out functions listed in numbers (1) to (6) to collaborate with other Divisions/Offices in NCIPC, CDC C/I/Os, PHS agencies, other federal departments and agencies, and private organizations as appropriate.

Practice Integration and Evaluation Branch (CUHFC). (1) Monitors and evaluates programs and policies and disseminates findings to promote program accountability and program improvement; (2) promotes an enhanced and sustained infrastructure for a public health approach to injury and violence prevention at state, local and tribal levels; (3) generates and moves practice based knowledge into program practice and research fields; (4) provides expertise in science based public health practice, state-level injury surveillance, and evaluation to state and local health departments; and (5) collaborates with NCIPC OD offices, Division of Community Safety and Trauma Systems, and the Division of Violence Prevention on cross-cutting injury and violence prevention programs, policies, state-level surveillance, and evaluation.

Dated September 25, 2012.
Sherri A. Berger,
Chief Operating Officer, Centers for Disease Control and Prevention.

[FR Doc. 2012-24771 Filed 10-10-12; 8:45 am]

BILLING CODE 4160-18-M